DEPARTMENT OF LABOR

Employment and Training Administration

Notice of Determinations Regarding Eligibility To Apply for Worker Adjustment Assistance

In accordance with section 223 of the Trade Act of 1974, as amended (19 U.S.C. 2273) the Department of Labor herein presents summaries of determinations regarding eligibility to apply for trade adjustment assistance for workers by (TA-W) number issued during the period of October 9, 2015 through October 23, 2015.

In order for an affirmative determination to be made for workers of a primary firm and a certification issued regarding eligibility to apply for worker adjustment assistance, each of the group eligibility requirements of section 222(a) of the Act must be met.

I. Under section 222(a)(2)(A), the following must be satisfied:

(1) A significant number or proportion of the workers in such workers' firm have become totally or partially separated, or are threatened to become totally or partially separated;

(2) the sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected secondary workers of a firm and a certification issued regarding eligibility to apply for worker adjustment assistance, each of the group eligibility requirements of section 222(b) of the Act must be met.

(1) A significant number or proportion of the workers in the workers' firm have become totally or partially separated, or are threatened to become totally or partially separated;

(2) The workers' firm is a Supplier or Downstream Producer to a firm that employed a group of workers who received a certification of eligibility under section 222(a) of the Act, and such supply or production is related to the article or service that was the basis for such certification; and

(3) either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of section 222(e) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1- year period preceding the 1-year period described in paragraph (2).

Affirmative Determinations for Worker Adjustment Assistance

The following certifications have been issued. The date following the company name and location of each determination references the impact date for all workers of such determination.

The following certifications have been issued. The requirements of section 222(a)(2)(A) (increased imports) of the Trade Act have been met.

TA-W No. | Subject firm | Location | Impact date
85,842 | Sypris Technologies, Inc., Manpower | Morganton, NC | January 20, 2014.
85,852 | Saint-Gobain Ceramics and Plastics, Inc., DBA Saint-Gobain Proppants, Procon-WFPC, Ltd | Fort Smith, AR | February 14, 2014.
85,981 | Stein Steel Mill Services, Inc., United State Steel Corporation, Granite City Works | Granite City, IL | May 1, 2014.

The following certifications have been issued. The requirements of section 222(a)(2)(B) (shift in production or services) of the Trade Act have been met.

TA-W No. | Subject firm | Location | Impact date
85,019 | Salience Insight, Inc., F/K/A KD Paine & Partners, News Group International, DUBAI UAE | Berlin, NH | January 16, 2013.
85,137 | LexisNexis, Reed Elsevier, PLC., AELPO Team, Matthew Bender, Populus Group and Linium | Miamisburg, OH | March 11, 2013.
85,137A | LexisNexis, Reed Elsevier, PLC., AELPO Team, Matthew Bender, Populus Group and Linium | Albany, NY | March 11, 2013.
85,137B | LexisNexis, Reed Elsevier, PLC., AELPO Team, Matthew Bender, Populus Group and Linium | Charlottesville, VA | March 11, 2013.
85,137C | LexisNexis, Reed Elsevier, PLC., AELPO Team, Matthew Bender, Populus Group and Linium | Colorado Springs, CO | March 11, 2013.
85,137D | LexisNexis, Reed Elsevier, PLC., AELPO Team, Matthew Bender, Populus Group and Linium | Dayton, OH | March 11, 2013.
85,137E | LexisNexis, Reed Elsevier, PLC., AELPO Team, Matthew Bender, Populus Group and Linium | Springfield, OH | March 11, 2013.
85,137F | LexisNexis, Reed Elsevier, PLC., AELPO Team, Matthew Bender, Populus Group and Linium | New Providence, NJ | March 11, 2013.
85,137G | LexisNexis, Reed Elsevier, PLC., AELPO Team, Matthew Bender, Populus Group and Linium | New York, NY | March 11, 2013.
85,137H | LexisNexis, Reed Elsevier, PLC., AELPO Team, Matthew Bender, Populus Group and Linium | San Francisco, CA | March 11, 2013.
85,137I | LexisNexis, Reed Elsevier, PLC., AELPO Team, Matthew Bender, Populus Group and Linium | Orem, UT | March 11, 2013.
85,339 | Freescale Semiconductor, Inc., Auto MCU PE/TE C90 Business Unit | Austin, TX | May 28, 2013.
85,871 | Multiband Corporation, Goodman Networks, Inc. | Richmond, KY | March 10, 2014.
85,943 | Robertshaw Controls Company, CDI Corporation | Corona, CA | April 15, 2014.
85,960 | Advanced Lab Concepts, Roundrock 092012 LLC, Opengate Capital Group LLC | Round Rock, TX | April 23, 2014.
85,960A | Hamilton Scientific LLC, Technical Employment Services, Roundrock 092012 LLC, Opengate Captial Group | De Pere, WI | April 23, 2014.
85,960B | Laboratory Solutions of America, Roundrock 092012 LLC, Opengate Capital Group LLC | Branchburg, NJ | April 23, 2014.
85,990 | Maxim Integrated, HBO Test Floor Group, Kelly Services | Hillsboro, OR | May 5, 2014.
86,016 | Rexnord Industries, LLC, Mill Products Division | Milwaukee, WI | May 7, 2014.
86,040 | ATOS IT Solutions and Services, Inc., F/K/A Siemens IT Solutions & Services, Inc. etc. | Mason, OH | May 28, 2014.
86,043 | UBM, LLC, Shared Services Division, Robert Half, Aerotek, Accounting Principals, etc. | Manhasset, NY | May 28, 2014.
86,046 | International Lease Finance Company, AerCap, Robert Half, Elite Placement, Roth Staffing, Resources Global | Los Angeles, CA | May 28, 2014.
86,066 | Worldwide Digital Company, LLC, Contec, LLC, Select Staff | Brownsville, TX | June 4, 2014.
86,091 | Frontier Airlines, Inc., Frontier Airlines Holdings, Sitel and Swiss Port, Etc. | Denver, CO | June 12, 2014.
86,121 | Sandvik Coromant, Sandvik, Inc., Uniforce and Snelling Staffing | Pontiac, MI | June 22, 2014.
90,004 | Citizens Bank, National Association, Business Services—Operations | Bridgeport, CT | January 1, 2014.
90,009 | Bechtel Business Services, A Business Unit Within Bechtel | Glendale, AZ | January 1, 2014.
90,013 | National Oilwell Varco, Industrial Products Division, Techstaff, Express Employment, etc. | Springfield, OH | January 1, 2014.
90,024 | QBE Americas, Inc., Home Owners Insurance Processing Department | Irvine, CA | January 1, 2014.
90,027 | Kongsberg Power Products Systems, Inc., Light Duty Cables, Etcon Employment Solutions | Swainsboro, GA | January 1, 2014.
90,030 | SimplexGrinnell LP, Also known as Tyco Fire Protection Products, Tyco Internation PLC, etc. | Westminster, MA | January 1, 2014.
90,042 | SECO/WARWICK Corporation | Meadville, PA | January 1, 2014.
90,047 | Athenahealth, Inc. | Birmingham, AL | February 8, 2015.
90,058 | ICON Health & Fitness Inc., Your Empolyment Solutions, Intermountain Staffing, Kelly Services and Nexeo | Logan, UT | January 1, 2014.
90,058A | ICON Health & Fitness Inc., Your Empolyment Solutions | Ogden, UT | January 1, 2014.
90,061 | Sentry Safe—Schwab Corporation, Advantage Resourcing | Cannelton, IN | January 1, 2014.
90,061A | Sentry Safe—Schwab Corporation, Rochester Business Alliance (RBA Staffing) and AP Professionals | Rochester, NY | January 1, 2014.
90,062 | Hutchinson Technology Incorporated | Eau Claire, WI | December 12, 2014.
90,071 | RR Donnelley, Lancaster Premedia | Lancaster, PA | January 1, 2014.
90,080 | Conifer Revenue Cycle Solutions, LLC, Mercy Medical Center, Conifer HIM, Revenue Integrity Services, LLC | Des Moines, IA | January 1, 2014.
90,162 | NCO Financial Systems, Inc., Expert Global Solutions, Inc. | Lenexa, KS | January 1, 2014.
90,214 | Concurrent Manufacturing Solutions, LLC, Hialeah Division, Oasis Outsourcing, Kelly Services, etc. | Hialeah, FL | January 1, 2014.
91,001 | Palmer Johnson Yachts, LLC, Aerotek, Calibre Coatings Unlimited LLC, etc. | Sturgeon Bay, WI | September 17, 2014.

The following certifications have been issued. The requirements of section 222(b) (supplier to a firm whose workers are certified eligible to apply for TAA) of the Trade Act have been met.

TA-W No. | Subject firm | Location | Impact date
85,799 | Comprehensive Logistics, Inc | Lansing, MI | January 28, 2014.

Determinations Terminating Investigations of Petitions for Worker Adjustment Assistance

After notice of the petitions was published in the Federal Register and on the Department's Web site, as required by section 221 of the Act (19 U.S.C. 2271), the Department initiated investigations of these petitions.

The following determinations terminating investigations were issued because the petitioner has requested that the petition be withdrawn.

TA-W No. | Subject firm | Location | Impact date
85,964 | IPSCO Koppel Tubulars, LLC | Ambridge, PA |
85,993 | IPSCO Tubulars (KY) Inc. | Wilder, KY |
86,017 | IPSCO Tubulars Inc., D/B/A TMK-IPSCO | Houston, TX |
86,067 | Guardian Life Insurance Company | Appleton, WA. |

The following determinations terminating investigations were issued in cases where these petitions were not filed in accordance with the requirements of 29 CFR 90.11. Every petition filed by workers must be signed by at least three individuals of the petitioning worker group. Petitioners separated more than one year prior to the date of the petition cannot be covered under a certification of a petition under section 223(b), and therefore, may not be part of a petitioning worker group. For one or more of these reasons, these petitions were deemed invalid.

TA-W No. | Subject firm | Location | Impact date
86,092 | National Electronic Warranty/Asurion | Sterling, VA.

The following determinations terminating investigations were issued because the petitioning groups of workers are covered by active certifications. Consequently, further investigation in these cases would serve no purpose since the petitioning group of workers cannot be covered by more than one certification at a time.

TA-W No. | Subject firm | Location | Impact date
90,017 | MoneyGram Payment Systems, Inc., MoneyGram International, Inc. | Brooklyn Center, MN.
90,192 | Frontier Airlines, Inc., Frontier Airlines Holdings, Inc., Customer Service Department | Denver, CO.
90,225 | Ipsco Koppel Tubulars, LLC | Ambridge, PA.

The following determinations terminating investigations were issued because the petitions are the subject of ongoing investigations under petitions filed earlier covering the same petitioners.

TA-W No. | Subject firm | Location | Impact date
90,121 | Symantec Corporation | Springfield, OR.

I hereby certify that the aforementioned determinations were issued during the period of October 9, 2015 through October 23, 2015. These determinations are available on the Department's Web site www.tradeact/taa/taa_search_form.cfm under the searchable listing of determinations or by calling the Office of Trade Adjustment Assistance toll free at 888-365-6822.

Signed at Washington DC this 27th day of October 2015.
Jessica R. Webster
Certifying Officer, Office of Trade Adjustment Assistance.

[FR Doc. 2015-30174 Filed 11-25-15; 8:45 am]

BILLING CODE 4510-FN-P